DEPARTMENT OF COMMERCE

National Oceanic and Atmospheric Administration

U.S. Coral Reef Task Force Public Meeting and Public Comment

AGENCY: National Ocean Service, NOAA, Department of Commerce.

ACTION: Notice of public meeting, Notice of public comment.

SUMMARY: Notice is hereby given of a public meeting of the U.S. Coral Reef Task Force. The meeting will be held in Ft. Lauderdale, Florida. This meeting, the 26th bi-annual meeting of the U.S. Coral Reef Task Force, provides a forum for coordinated planning and action among federal agencies, state and territorial governments, and nongovernmental partners. Please register in advance by visiting the Web site listed below. This meeting has time allotted for public comment. All public comment must be submitted in written format. A written summary of the meeting will be posted on the Web site within two months of its occurrence.

DATES: The meeting will be held Friday, October 21, 2011. Additional workshops will be held in advance of the meeting on Tuesday, October 18, and Wednesday, October 19, and field trips on Thursday, October 20. Registration is requested for all events associated with the meeting. Advance public comments can be submitted to the email, fax, or mailing address listed below from Monday, September 26-Friday, October 7.

Location: The meeting will be held at the Marriott Harbor Beach Hotel, 3030 Holiday Drive, Ft. Lauderdale, Florida 33316.

FOR FURTHER INFORMATION CONTACT: Beth Dieveney, NOAA USCRTF Steering Committee Point of Contact, NOAA Coral Reef Conservation Program, 1305 East-West Highway, N/OCRM, Silver Spring, MD 20910 (phone: 301-713-3155 x129; fax: 301-713-4389; e-mail: Beth.Dieveney@noaa.gov); or Liza Johnson, USCRTF Executive Secretary, U.S. Department of the Interior, MS-3530-MIB, 1849 C Street, NW., Washington, DC 20240 (phone: 202-208-1378; fax: 202-208-4867; e-mail: (Liza_M_Johnson@ios.doi.gov); or visit the USCRTF Web site at http://www.coralreef.gov.

SUPPLEMENTARY INFORMATION: Established by Presidential Executive Order 13089 in 1998, the U.S. Coral Reef Task Force mission is to lead, coordinate, and strengthen U.S. government actions to better preserve and protect coral reef ecosystems. Co-chaired by the Departments of Commerce and Interior, Task Force members include leaders of 12 federal agencies, seven U.S. states and territories, and three freely associated states. For more information about the meeting, registering, and submitting public comment go to http://www.coralreef.gov.

Public Comments: Comments may address the meeting, the role of the USCRTF, or general coral reef conservation issues.

Public Availability of Comments: Before including your address, phone number, e-mail address, or other personal identifying information in your comment, you should be aware that your entire comment—including your personal identifying information—may be made publicly available at any time. While you can ask us in your comment to withhold your personal identifying information from public review, we cannot guarantee that we will be able to do so.

Dated: August 12, 2011.
Donna Wieting,
Director, Office of Ocean and Coastal Resource Management, National Ocean Service, National Oceanic Atmospheric Administration.

[FR Doc. 2011-21372 Filed 8-19-11; 8:45 am]

BILLING CODE 3510-22-P